ENVIRONMENTAL PROTECTION AGENCY

[FR-FRL-6627-5]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at 202 564-7167. An explanation of the ratings assigned to draft environmental impact statements (EISs) was published in FR dated May 18, 2001, (66 FR 27647).

Draft EISs

ERP No. D-BLM-L65391-OR Rating EC2, Lakeview Resource Management Plan, Unified Land Use Plan to Replace All or Portions of Three nearly Twenty Year Old Existing Land Use Plans, Implementation, Lake and Bend Counties, OR.

Summary: EPA expressed environmental concerns about lack of information on the management of noxious weeds, impacts to water and air quality and roads, and protection of tribal interests. EPA requested that these issues be fully addressed in the final EIS.

Final EISs

ERP No. F-AFS-G65076-OK, Quachita National Forest, An Amendment to the Land and Resource Management Plan, Implementation, Glover River, McCurtain County, OK.

Summary: EPA has no objection to the selection of the preferred alternative, Alternative C.

ERP No. F-AFS-J65349-UT, Griffin Springs Resource Management Project, Implementation, Commercial Timber Harvesting, Aspen Regeneration, Management Ignited Prescribed Fire and Road Work, Dixie National Forest, Escalante Ranger District, Garfield County, UT.

Summary: EPA continues to express environmental concerns that there was no scientific evidence presented for the use of thinning to prevent a spruce beetle epidemic and regarding the attempt to segregate travel management analysis and decisions from site-specific project decisions.

ERP No. F-NRC-J00031-UT, Skull Valley Band of Goshute Indians Reservation Project, Construction and Operation of Independent Spent Fuel Storage Installation and Related Transportation Facilities, Permits and Approvals, Tooele County, UT.

Summary: EPA continues to have environmental concerns with the emergency response procedures and the characterization of Clean Water Act Requirements. EPA requested that these concerns be addressed in the Record of Decision.

ERP No. F-USN-K11033-CA, El Toro Marine Corps Air Station Disposal and Reuse, Recommendation and Approval of an Airport Layout Plan for Civilian Airport, Funding, NPDES Permit, Orange County, CA.

Summary: No formal comment letter was sent to the preparing agency.

ERP No. F-USN-K11105-CA, Point Molate Property Naval Fuel Depot (NFD) for the Disposal and Reuse, Implementation, Fleet and Industrial Supply Center, City of Richmond, Contra Costa County, CA.

Summary: No formal comment letter was sent to the preparing agency.

ERP No. FC-NRC-A00164-00, Generic—License Renewal of Nuclear Power Plants, Supplement 5, Turkey Point Units 3 and 4 (NUREG-1437), Operating License Renewal, Biscayne Bay, Miami-Dade County, FL.

Summary: EPA continues to have environmental concerns about the project, Specifically noise impacts to nearby Biscayne National Park merit further discussion as the project progresses.

Dated: March 12, 2002.
Joseph C. Montgomery,
Director, NEPA Compliance Division, Office of Federal Activities.

[FR Doc. 02-6293 Filed 3-14-02; 8:45 am]

BILLING CODE 6560-50-P